DEPARTMENT OF ENERGY

Notice of Request for Information (RFI) on Hydrogen Program's Demonstration Opportunities Aligned With Hydrogen Energy Earthshot Initiative

AGENCY: Office of Energy Efficiency and Renewable Energy, Office of Fossil Energy, Office of Nuclear Energy, Office of Electricity, Office of Science, Department of Energy.

ACTION: Request for information.

SUMMARY: The U.S. Department of Energy (DOE) invites public comment on its Request for Information (RFI) number DE-FOA-0002529 regarding the DOE's Hydrogen Energy Earthshot initiative to enable low cost, clean hydrogen at scale. Energy Earthshots being launched by DOE look beyond incremental advances and aim, instead, at the game-changing breakthroughs that will secure American leadership in enabling net-zero carbon technologies and address the climate crisis through the build-up of a clean and equitable energy future for all. The information being sought is intended to assist DOE's Hydrogen Program in further defining the scope and priorities of its initiatives to accelerate the production, storage, delivery, and end use of clean, affordable hydrogen in the United States. Specifically, this RFI seeks input on viable hydrogen demonstration and deployment projects, as well as science and innovation, that enable clean and affordable hydrogen production, infrastructure and end use to reduce emissions, create jobs, provide benefits to disadvantaged communities, and enable a net-zero carbon emissions economy by 2050. This is solely a request for information and not a Funding Opportunity Announcement (FOA). DOE is not accepting applications.

DATES: Responses to the RFI must be received by July 7, 2021 by 5:00 p.m.

ADDRESSES: Interested parties are to submit comments electronically to HFTORFI@ee.doe.gov. Include “HFTO RFI” in the subject line of the email. Email attachments can be provided as a Microsoft Word (.docx) file or an Adobe PDF (.pdf) file, prepared in accordance with the detailed instructions in the RFI. Documents submitted electronically should clearly indicate which topic areas and specific questions are being addressed, and should be limited to no more than 25 MB in size. The complete RFI [DE-FOA-0002529] document is located at https://eere-exchange.energy.gov/.

FOR FURTHER INFORMATION CONTACT: Questions may be addressed to HFTORFI@ee.doe.gov or to Michael Hahn at 240-562-1551. Further instruction can be found in the RFI document posted on EERE Exchange at https://eere-exchange.energy.gov/.

SUPPLEMENTARY INFORMATION: There are extensive opportunities to produce clean hydrogen from diverse domestic resources, and both the DOE Hydrogen Program and industry have identified opportunities for using that clean hydrogen across multiple applications and sectors. The Hydrogen Program is interested in hearing from stakeholders, which of these areas would provide potential locations for near-term, large-scale, clean hydrogen demonstration projects, where near-term refers to deployment in the next few years. The purpose of this RFI is to solicit feedback from industry, investors, developers, academia, research laboratories, government agencies, and other stakeholders on potential hydrogen demonstration projects and their associated locations, including potentially ideal locations in the United States. Specifically, DOE is requesting input on the following categories:

• Regional Hydrogen Production, Resources, and Infrastructure

• End Users for Hydrogen in the Region, Cost, and Value Propositions

• Greenhouse Gas and Pollutant Emissions Reduction Potential

• Diversity, Equity, Inclusion (DEI), Jobs, and Environmental Justice

• Science and Innovation Needs and Challenges

• Additional Information

Specific questions can be found in the RFI. The RFI is available at: https://eere-exchange.energy.gov/.

Confidential Business Information: Pursuant to 10 CFR 1004.11, any person submitting information that he or she believes to be confidential and exempt by law from public disclosure should submit via email two well-marked copies: One copy of the document marked “confidential” including all the information believed to be confidential, and one copy of the document marked “non-confidential” with the information believed to be confidential deleted. Submit these documents via email. DOE will make its own determination about the confidential status of the information and treat it according to its determination.

Signing Authority: This document of the Department of Energy was signed on May 24, 2021, by Dr. Sunita Satyapal, Director, Hydrogen and Fuel Cells Technology Office, Office of Energy Efficiency and Renewable Energy pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 27, 2021.
Treena V. Garrett,
Federal Register Liaison Officer, U.S. Department of Energy.

[FR Doc. 2021-11604 Filed 6-7-21; 8:45 am]

BILLING CODE 6450-01-P